DEPARTMENT OF LABOR

Occupational Safety and Health Administration

29 CFR Part 1915

RIN 1218-AB50

General Working Conditions in Shipyard Employment; Approval of Information Collection Requirements

AGENCY: Occupational Safety and Health Administration (OSHA), Labor.

ACTION: Final rule; notice of Office of Management and Budget (OMB) approval of collection of information requirements.

SUMMARY: OSHA is announcing that OMB approved the collection of information requirements contained in the General Working Conditions Standard under the Paperwork Reduction Act of 1995. The OMB approval number is 1218-0259.

DATES: The rule is effective January 3, 2012. The final rule, published May 2, 2011 (76 FR 24576), became effective and enforceable on August 1, 2011, except for the provisions in § 1915.89, which became effective and enforceable on October 31, 2011.

FOR FURTHER INFORMATION CONTACT: Theda Kenney, OSHA, Directorate of Standards and Guidance, U.S. Department of Labor, Room N-3609, 200 Constitution Avenue NW., Washington, DC 20210; telephone (202) 693-2222.

SUPPLEMENTARY INFORMATION: OSHA published a final rule for General Working Conditions in Shipyard Employment on May 2, 2011 (76 FR 24576), updating existing requirements to reflect advances in industry practices and technology, consolidating some general safety and health requirements into one subpart, and providing hazardous energy protection not addressed in the existing standard.

As required by the Paperwork Reduction Act of 1995, the Federal Register notice for the General Working Conditions in Shipyard Employment final rule stated that compliance with the collection of information requirements was not required until OMB approved these requirements, and that the Department of Labor would publish a notice in the Federal Register announcing that OMB approved and assigned a control number to the requirements. See 76 FR 24695. Under 5 CFR 1320.5(b), an agency may not conduct or sponsor a collection of information unless: (1) The collection of information displays a currently valid OMB control number, and (2) the agency informs those members of the public who must respond to the collection of information that they are not required to respond to the collection of information unless it displays a currently valid OMB control number.

On May 2, 2011, OSHA submitted the General Working Conditions in Shipyard Employment (29 CFR part 1915, subpart F) Information Collection Request for the final rule to OMB for approval in accordance with the Paperwork Reduction Act of 1995 (44 U.S.C. 3501-3520). On October 31, 2011, OMB approved the collections of information contained in the final rule and assigned this collection OMB Control Number 1218-0259.

List of Subjects in 29 CFR Part 1915

Occupational safety and health, reporting, Recordkeeping requirements, Hazards in general working condition in shipyard employment.

Authority and Signature

David Michaels, Ph.D., MPH, Assistant Secretary of Labor for Occupational Safety and Health, directed the preparation of this notice. The authority for this notice is the Paperwork Reduction Act of 1995 (44 U.S.C. 3506 et seq.), and Secretary of Labor's Order No. 4-2010 (75 FR 55355).

Signed at Washington, DC, on December 22, 2011.
David Michaels,
Assistant Secretary of Labor for Occupational Safety and Health.

Amendments to Standard

For the reasons stated in the preamble to the final rule, the Occupational Safety and Health Administration amends 29 CFR part 1915 to read as follows:

PART 1915—[AMENDED]

Subpart F—[Amended]

Amend § 1915.8, by adding to the table the entries “1915.83, 1915.87, 1915.88, and 1915.89” in the proper numerical sequence as follows:

§ 1915.8 OMB control numbers under the Paperwork Reduction Act.

* * * * *

29 CFR citation | OMB control No.
1915.83 | 1218-0259
1915.87 | 1218-0259
1915.88 | 1218-0259
1915.89 | 1218-0259
* * * * *

[FR Doc. 2011-33260 Filed 12-30-11; 8:45 am]

BILLING CODE 4510-26-P